DEPARTMENT OF DEFENSE

Office of the Secretary

[Docket ID DOD-2012-OS-0046]

Privacy Act of 1974; System of Records

AGENCY: Office of the Secretary, DoD.

ACTION: Notice to alter a system of records.

SUMMARY: The Office of the Secretary of Defense proposes to alter a system of records in its inventory of record systems subject to the Privacy Act of 1974 (5 U.S.C. 552a), as amended.

DATES: This proposed action will be effective on May 14, 2012 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Services, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on April 6, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 9, 2012.
Aaron Siegel,
Alternate OSD Federal Register Liaison Officer, Department of Defense.

DSCA 02

System name:

Regional International Outreach System (March 7, 2007, 72 FR 10180).

Changes:

* * * * *

System name:

Delete entry and replace with “GlobalNET Outreach and Collaboration Platform”.

System location:

Delete entry and replace with “Amazon Web Services, LLC 13461 Sunrise Valley Drive, Herndon, VA 20171-3283.”

Categories of individuals covered by the system:

Delete entry and replace with “DoD Military and civilian employees, U.S. military students, alumni, contractors, systems integrators, and subject matter experts who interact with DoD educational institutions.”

Categories of records in the system:

Delete entry and replace with “Name, citizenship, home and email addresses, personal telephone numbers, gender, date of birth, month/year of attendance and course subjects, and biographic information such as subject matter expertise, background, and education.”

Authority for maintenance of the system:

Delete entry and replace with “10 U.S.C. 134, Under Secretary of Defense for Policy; DoD Directive 5105.65, Defense Security Cooperation Agency (DSCA), Section 5.10; DoD Directive 5101.1, DoD Executive Agent, Section 5.2.7; DoD Directive 5200.41, DoD Centers for Regional Security Studies, Section 3.1; and DoD Directive 5132.03, DoD Policy and Responsibilities Relating to Security Cooperation.”

Purpose(s):

Delete entry and replace with “To improve collaboration and outreach efforts (with students, graduates and subject matter experts) among the DoD Regional Centers for Security Studies, and additional organizations/communities, as directed.”

* * * * *

Retrievability:

Delete entry and replace with “Name, email address, subject matter expertise, month/year of attendance, and course subject.”

Safeguards:

Delete entry and replace with “Access is limited to those individuals with a need to know in order to perform official and assigned duties. Physical access is limited through the use of locks, guards, card swipe, and other administrative procedures. The electronic records are housed on systems with access restricted by the use of login, password, and/or card swipe protocols. Users are warned through screen log-on, protocols and/or in briefings of the consequences of improper access or use of the data. The web-based files are encrypted in accordance with approved information assurance protocols. The user can also restrict access to his personal data by selecting which type of information is available to members, friends, or others.”

Retention and disposal:

Delete entry and replace with “Disposition pending (until the National Archives and Records Administration approve the retention and disposition of these records, treat as permanent).”

System manager and address:

Delete entry and replace with “GlobalNET Program Manager, Defense Security Cooperation Agency, ATTN: PGM/CMO, 201 12th Street S, Suite 203, Arlington, VA 22202-5408.”

Notification procedure:

Delete entry and replace with “Individuals seeking to determine whether information about themselves is contained in this system of records should address written inquiries to GlobalNET Program Manager, the Defense Security Cooperation Agency, ATTN: PGM/CMO, 201 12th Street S, Suite 203, Arlington, VA 22202-5408.

Written requests should contain the full name, home and/or email addresses, telephone number, and organization.”

Record access procedures:

Delete entry and replace with “Individuals seeking access to records about themselves contained in this system should address written inquiries to the Office of the Secretary of Defense/Joint Staff Freedom of Information Act Requester Service Center, 1155 Defense Pentagon, Washington DC 20301-1155.

Written requests should contain the full name, home and/or email addresses, telephone number, and organization, the name and number of this system of records notice and be signed.”

* * * * *

[FR Doc. 2012-8833 Filed 4-11-12; 8:45 am]

BILLING CODE 5001-06-P